FEDERAL COMMUNICATIONS COMMISSION

Sunshine Act Meeting; Amendment to Agenda Item From February 10, 2005, Open Meeting

February 10, 2005.

The following Report and Order has been deleted from Agenda Item No. 9 scheduled for consideration at the February 10, 2005, Open Meeting and previously listed in the Commission's Notice of February 3, 2005.

9 | Wireline Competition | Title: Sprint Petition for Declaratory Ruling Regarding Obligation of Incumbent LECs to Load Numbering Resources and Honor Routing and Rating Points; T-Mobile et al. Petition for Declaratory Ruling Regarding Incumbent LEC Wireless Termination Tariffs (CC Docket No. 01-92).
|  | Summary: The Commission will consider a Report and Order that resolves a number of issues regarding application of the Commission's intercarrier compensation rules.

Federal Communications Commission.
Marlene H. Dortch,
Secretary.

[FR Doc. 05-3065 Filed 2-14-05; 11:50 am]

BILLING CODE 6712-01-P